ENVIRONMENTAL PROTECTION AGENCY

40 CFR Part 300

[FRL-7848-6]

National Oil and Hazardous Substance Pollution Contingency Plan National Priorities List

AGENCY: Environmental Protection Agency.

ACTION: Notice of intent to partially delete 9.84 acres within the Uravan Superfund Site from the National Priorities List.

SUMMARY: The Environmental Protection Agency (EPA) Region 8 is issuing a notice of intent to partially delete 9.84 acres within the Uravan Superfund Site located in Montrose County, Colorado, from the National Priorities List (NPL) and requests public comment on this notice of intent. The NPL, promulgated pursuant to section 105 of the Comprehensive Environmental Response, Compensation, and Liability Act (CERCLA) of 1980, as amended, is found at Appendix B of 40 CFR part 300 which is the National Oil and Hazardous Substances Pollution Contingency Plan (NCP). The EPA and the State of Colorado, through the Colorado Department of Public Health and Environment, have determined that all appropriate response actions under CERCLA, other than operation and maintenance and five-year reviews, have been completed for the 9.84 acres including two historic structures. However, this deletion does not preclude future actions under Superfund.

In the “Rules and Regulations” section of today's Federal Register, we are publishing a direct final notice of partial deletion of the Uravan Superfund Site without prior notice of intent to delete because we view this as a noncontroversial revision and anticipate no adverse comment. We have explained our reasons for this partial deletion in the preamble to the direct final deletion. If we receive no adverse comment(s) on this notice of intent to partially delete or the direct final notice of partial deletion, we will not take further action on this notice of intent to delete. If we receive adverse comment(s), we will withdraw the direct final notice of partial deletion and it will not take effect. We will, as appropriate, address all public comments in a subsequent final deletion notice based on this notice of intent to partially delete. We will not institute a second comment period on this notice of intent to partially delete. Any parties interested in commenting must do so at this time. For additional information, see the direct final notice of deletion which is located in the rules section of this Federal Register.

DATES: Comments concerning this Site must be received by January 19, 2005.

ADDRESSES: Written comments should be addressed to: Rob Henneke, Community Involvement Coordinator, U.S. EPA (8OC-PI), 999 18th Street, Suite 300, Denver, Colorado, USA 80202, (henneke.rob@epa.gov), (303) 312-6734, or toll free 1-800-227-8917, extension 6734.

FOR FURTHER INFORMATION CONTACT: Rebecca Thomas, Remedial Project Manager, U.S. EPA (8ERP-SR), 999 18th Street, Suite 300, Denver, Colorado, USA 80202 (thomas.rebecca@epa.gov), (303) 312-6552, or toll free 1-800-227-8917, extension 6552.

SUPPLEMENTARY INFORMATION: For additional information, see the Direct Final Notice of Deletion which is located in the rules section of this Federal Register.

Information Repository: A repository has been established to provide detailed information concerning this decision at the following address: U.S. EPA Region 8 Records Center, 999 18th Street, Suite 300, Denver, Colorado, USA 80202, (303) 312-6473. Hours: M-F, 8:30 a.m. to 4:30 p.m.

List of Subjects in 40 CFR Part 300

Environmental Protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: December 6, 2004.
Max Dodson,
Acting Regional Administrator, Region 8.

[FR Doc. 04-27550 Filed 12-17-04; 8:45 am]

BILLING CODE 6560-50-P